SMALL BUSINESS ADMINISTRATION

13 CFR Part 121

RIN 3245-AH17

Small Business Size Standards: Adjustment of Monetary-Based Size Standards for Inflation; Correction

AGENCY: U.S. Small Business Administration.

ACTION: Correcting amendments.

SUMMARY: The U.S. Small Business Administration (SBA) is correcting an interim final rule that appeared in the Federal Register on July 18, 2019. The rule adjusted the monetary-based industry size standards (i.e., receipts- and assets-based) for inflation that occurred since the last adjustment in 2014. SBA is correcting a reference in the table titled “Small Business Size Standards by NAICS Industry” that incorrectly identifies the North American Industry Classification System (NAICS) code for the Dredging and Surface Cleanup Activities exception as “237900” instead of “237990.”

DATES: Effective on November 20, 2019.

FOR FURTHER INFORMATION CONTACT: Khem Sharma, Chief, Office of Size Standards, U.S. Small Business Administration, 409 Third Street SW, Washington, DC 20416.

SUPPLEMENTARY INFORMATION: On July 18, 2019, SBA published an interim final rule adjusting the receipts-based industry size standards for inflation for 518 industries and 9 subindustries or exceptions, as well as assets-based size standards for 5 industries (84 FR 34261). The rule became effective on August 19, 2019. As part of the rule, SBA increased the size standard for the Dredging and Surface Cleanup Activities (Dredging), which is an “exception” to NAICS code 237990 (Other Heavy and Civil Engineering Construction), from $27.5 million to $30.0 million in annual average receipts. However, in the SBA's interim rule, the NAICS code for the Dredging exception was incorrectly referenced as “237900” instead of “237990.” This action corrects that error by changing the NAICS code for the Dredging exception to “237990.” However, it does not affect the industry description or size standard for NAICS code 237990, including the Dredging exception.

List of Subjects in 13 CFR Part 121

Administrative practice and procedure, Government procurement, Government property, Grant programs—business, Individuals with disabilities, Loan programs—business, Reporting and recordkeeping requirements, Small businesses.

Accordingly, 13 CFR part 121 is corrected by making the following correcting amendments:

PART 121—SMALL BUSINESS SIZE REGULATIONS

1. The authority citation for part 121 continues to read as follows:

Authority: 15 U.S.C. 632, 634(b)(6), 662, and 694a(9).

2. In § 121.201, amend the table by removing the entry “237900 (Exception)” and adding the entry “237990 (Exception)” in its place to read as follows:

§ 121.201 What size standards has SBA identified by North American Industry Classification System codes?

* * * * *

Small Business Size Standards by NAICS Industry
NAICS codes | NAICS U.S. industry title | Size standards in millions of dollars | Size standards in number of employees
* * * * * * *
237990 (Exception) | Dredging and Surface Cleanup Activities ² | $30.0 ² |
* * * * * * *

Footnotes

* * * * *

2. NAICS code 237990—Dredging: To be considered small for purposes of Government procurement, a firm must perform at least 40 percent of the volume dredged with its own equipment or equipment owned by another small dredging concern.

* * * * *

Dated: November 13, 2019.
Robb N. Wong,
Associate Administrator, Office of Government Contracting and Business Development.

[FR Doc. 2019-25081 Filed 11-19-19; 8:45 am]

BILLING CODE P